DEPARTMENT OF ENERGY

Federal Energy Regulatory Commission

Combined Notice of Filings

August 30, 2006.

Take notice that the Commission received the following exempt wholesale generator filings:

Docket Numbers: EG06-76-000.

Applicants: Noble Clinton Windpark I, LLC.

Description: Noble Clinton Windpark I, LLC submits a Notice of Self-Certification of Exempt Wholesale Generator Status.

Filed Date: 08/25/2006.

Accession Number: 20060829-0175.

Comment Date: 5 p.m. Eastern Time on Friday, September 15, 2006.

Docket Numbers: EG06-77-000.

Applicants: Noble Ellenberg Windpark, LLC.

Description: Noble Ellenberg Windpark, LLC submits a Notice of Self-Certification of Exempt Wholesale Generator Status.

Filed Date: 08/25/2006.

Accession Number: 20060829-0176.

Comment Date: 5 p.m. Eastern Time on Friday, September 15, 2006.

Docket Numbers: EG06-78-000.

Applicants: Noble Altona Windpark, LLC.

Description: Noble Altona Windpark, LLC submits a Notice of Self-Certification of Exempt Wholesale Generator Status.

Filed Date: 08/25/2006.

Accession Number: 20060829-0177.

Comment Date: 5 p.m. Eastern Time on Friday, September 15, 2006.

Docket Numbers: EG06-79-000.

Applicants: Noble Bliss Windpark, LLC.

Description: Noblie Bliss Windpark, LLC submits a notice of self-certification of exempt wholesale generator status.

Filed Date: 08/25/2006.

Accession Number: 20060829-0178.

Comment Date: 5 p.m. Eastern Time on Friday, September 15, 2006.

Take notice that the Commission received the following electric rate filings:

Docket Numbers: ER97-4345-020; ER98-511-008.

Applicants: Oklahoma Gas and Electric Company; OGE Energy Resources Inc.

Description: Oklahoma Gas and Electric Co et al. resubmits its 7/25/06 filing of proposed revisions to their respective market-based rate tariffs to allow the OGE Companies to sell power at market-based rates.

Filed Date: 08/25/2006.

Accession Number: 20060829-0181.

Comment Date: 5 p.m. Eastern Time on Friday, September 15, 2006.

Docket Numbers: ER05-911-001.

Applicants: Pacific Gas & Electric Company.

Description: Pacific Gas & Electric Company submits a compliance Electric Refund Report.

Filed Date: 08/28/2006.

Accession Number: 20060828-5048.

Comment Date: 5 p.m. Eastern Time on Monday, September 18, 2006.

Docket Numbers: ER06-451-001; ER06-641-002.

Applicants: Southwest Power Pool, Inc.

Description: Southwest Power Pool, Inc submits a compliance filing providing for revisions to its Open Access Transmission Tariff pursuant to Commission 7/26/06 order.

Filed Date: 08/25/2006.

Accession Number: 20060830-0006.

Comment Date: 5 p.m. Eastern Time on Friday, September 15, 2006.

Docket Numbers: ER06-1162-002.

Applicants: Select Energy New York, Inc.

Description: Select Energy New York Inc submits Substitute Second Revised Sheet 1 & 2 as well as Substitute First Revised Sheet 3 in response to FERC's letter dated 7/26/06 with regards to its 6/20/06 original submittal.

Filed Date: 08/25/2006.

Accession Number: 20060829-0170.

Comment Date: 5 p.m. Eastern Time on Friday, September 15, 2006.

Docket Numbers: ER06-1219-001.

Applicants: ISO New England Inc; Unitil Energy Systems, Inc.; Fitchburg Gas and Electric Light Company.

Description: ISO New England, Inc et al. submit revisions to their respective portions of the filing made on 6/30/06 as directed by the Commission in Order 676.

Filed Date: 08/25/2006.

Accession Number: 20060830-0005.

Comment Date: 5 p.m. Eastern Time on Friday, September 08, 2006.

Docket Numbers: ER06-1252-001: ER06-1201-001.

Applicants: E.ON U.S. LLC; E.ON U.S. Services, Inc; Louisville Gas & Electric Company.

Description: E.ON U.S. LLC on behalf of E.ON U.S. Services et al submits a revised and executed version of its interconnection agreement with East Kentucky Power Cooperative.

Filed Date: 08/25/2006.

Accession Number: 20060830-0004.

Comment Date: 5 p.m. Eastern Time on Friday, September 15, 2006.

Docket Numbers: ER06-1393-000.

Applicants: California Independent System Operator Corporation.

Description: California Independent System Operator Corp notifies FERC of the revised transmission Access Charges effective 6/4/06 to implement the revised Transmission Revenue Requirement of Southern California Edison.

Filed Date: 08/23/2006.

Accession Number: 20060825-0009.

Comment Date: 5 p.m. Eastern Time on Wednesday, September 13, 2006.

Docket Numbers: ER06-1407-000.

Applicants: Noble Bliss Windpark, LLC.

Description: Noble Bliss Windpark, LLC submits an application for order accepting initial tariff, waiving regulations and granting Blanket Approvals and request for expedited consideration.

Filed Date: 08/25/2006.

Accession Number: 20060829-0173.

Comment Date: 5 p.m. Eastern Time on Friday, September 15, 2006.

Docket Numbers: ER06-1408-000.

Applicants: Noble Ellenberg Windpark, LLC.

Description: Noble Ellenburg Windpark, LLC submits an application for order accepting initial tariff, waiving regulations and granting Blanket Approvals and request for expedited consideration.

Filed Date: 08/25/2006.

Accession Number: 20060829-0172.

Comment Date: 5 p.m. Eastern Time on Friday, September 15, 2006.

Docket Numbers: ER06-1409-000.

Applicants: Noble Altona Windpark, LLC.

Description: Noble Altona Windpark, LLC submits an application accepting initial tariff, waiving regulations and granting blanket approvals and request for expedited consideration.

Filed Date: 08/25/2006.

Accession Number: 20060829-0171.

Comment Date: 5 p.m. Eastern Time on Friday, September 15, 2006.

Docket Numbers: ER06-1410-000; ER06-1411-000.

Applicants: Entergy Nuclear Palisades, LLC; Entergy Nuclear Power Marketing, LLC.

Description: Entergy Nuclear Palisades LLC submits an application for order accepting initial market-based tariff, waiving regulations, and granting blanket approvals, and Entergy Nuclear Power Marketing LLC submits a revised tariff.

Filed Date: 08/25/2006.

Accession Number: 20060829-0204.

Comment Date: 5 p.m. Eastern Time on Friday, September 15, 2006.

Docket Numbers: ER06-1412-000.

Applicants: Midwest Independent Transmission System Operator, Inc.

Description: Midwest Independent Transmission System Operator Inc submits proposed revisions to Section 43.7 of its Open Access Transmission and Energy Markets Tariff, FERC Electric Tariff, Third Revised Volume 1.

Filed Date: 08/25/2006.

Accession Number: 20060829-0203.

Comment Date: 5 p.m. Eastern Time on Friday, September 15, 2006.

Docket Numbers: ER06-1413-000.

Applicants: Noble Clinton Windpark I, LLC.

Description: Noble Clinton Windpark I, LLC submits an application for order accepting initial tariff, waiving regulations, and granting blanket approvals and request for expedited consideration.

Filed Date: 08/25/2006.

Accession Number: 20060829-0202.

Comment Date: 5 p.m. Eastern Time on Friday, September 15, 2006.

Docket Numbers: ER06-1414-000.

Applicants: Cinergy Marketing & Trading, LP.

Description: Cinergy Marketing & Trading, LP submits its application for waivers of Parts 41, 101 and 141 of FERC's regulations and for prior blanket authorization for future issuances of securities and assumption of liabilities.

Filed Date: 08/23/2006.

Accession Number: 20060829-0174.

Comment Date: 5 p.m. Eastern Time on Wednesday, September 13, 2006.

Docket Numbers: ER06-1415-000.

Applicants: Western Systems Power Pool, Inc.

Description: Western Systems Power Pool Inc requests FERC to amend the WSPP Agreement to include Barclays Bank PLC, Central Arizona Water Conservation District et al. as members of the WSPP.

Filed Date: 08/25/2006.

Accession Number: 20060829-0201.

Comment Date: 5 p.m. Eastern Time on Friday, September 15, 2006.

Docket Numbers: ER06-1416-000.

Applicants: Detroit Edison Company.

Description: The Detroit Edison Co submits its First Revised Sheet 23 et al to FERC Electric Tariff, First Revised Volume 5.

Filed Date: 08/25/2006.

Accession Number: 20060829-0179.

Comment Date: 5 p.m. Eastern Time on Friday, September 15, 2006.

Docket Numbers: ER06-1417-000.

Applicants: Weyerhaeuser Company.

Description: Weyerhaeuser Co submits its Second Amended Petition for Market Based Rate Authority, Acceptance of Initial Rate Schedule Waivers & Blanket Authority, designated as Rate Schedule 1 pursuant to FERC's 11/17/03 Order.

Filed Date: 08/28/2006.

Accession Number: 20060830-0003.

Comment Date: 5 p.m. Eastern Time on Monday, September 18, 2006.

Docket Numbers: ER06-1418-000.

Applicants: Midwest Independent Transmission System Operator, Inc.

Description: Midwest Independent Transmission System Operator, Inc submits proposed revisions to their Open Access Transmission and Energy Markets Tariff, FERC Electric Tariff, Third Revised Volume 1.

Filed Date: 08/28/2006.

Accession Number: 20060830-0002.

Comment Date: 5 p.m. Eastern Time on Monday, September 18, 2006.

Docket Numbers: ER06-1419-000.

Applicants: MeadWestvaco Virginia Corporation.

Description: MeadWestvaco Virginia Corp submits its Petition for Market-Based Rate Authority, Acceptance of Initial Rate Schedule, Waivers and Blanket Authority designated as Rate Schedule FERC 1 pursuant to FERC's 11/17/03 Order.

Filed Date: 08/28/2006.

Accession Number: 20060830-0001.

Comment Date: 5 p.m. Eastern Time on Monday, September 18, 2006.

Take notice that the Commission received the following electric securities filings.

Docket Numbers: ES06-63-000.

Applicants: MidAmerican Energy Company.

Description: MidAmerican Energy Company submits its application for authorization to issue and sell up to $600 million of bonds, notes, debentures, guarantees or other evidences of long-term indebtedness.

Filed Date: 08/25/2006.

Accession Number: 20060829-0199.

Comment Date: 5 p.m. Eastern Time on Friday, September 15, 2006.

Docket Number: ES06-64-000.

Applicants: Noble Ellenberg Windpark, LLC; Noble Bliss Windpark LLC; Noble Clinton Windpark I, LLC; Noble Altona Windpark, LLC.

Description: Noble Altona Windpark LLC, Noble Bliss Windpark LLC et al. submits its application for authorization to issue securities and assume liabilities and request for expedited consideration.

Filed Date: 08/25/2006.

Accession Number: 20060829-0200.

Comment Date: 5 p.m. Eastern Time on Friday, September 15, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-14950 Filed 9-8-06; 8:45 am]

BILLING CODE 6717-01-P